FEDERAL COMMUNICATIONS COMMISSION

47 CFR Part 1

[GEN Docket No. 86-285; FCC 18-90]

Schedule of Application Fees

AGENCY: Federal Communications Commission.

ACTION: Final rule.

SUMMARY: In this document, the Federal Communications Commission (Commission) revises the FY 2018 application fee rates based on increases in the Consumer Price Index.

DATES: Effective September 4, 2018.

FOR FURTHER INFORMATION CONTACT: Roland Helvajian, Office of Managing Director at (202) 418-0444.

SUPPLEMENTARY INFORMATION: This is a summary of the Commission's Order, FCC 18-90, GEN Docket No. 86-285, adopted on July 6, 2018 and released on July 10, 2018. The full text of this document is available for inspection and copying during normal business hours in the FCC Reference Center, 445 12th Street SW, Room CY-A257, Portals II, Washington, DC 20554. This document is also available in alternative formats (computer diskette, large print, audio record, and Braille). Persons with disabilities who need documents in these formats may contact the FCC by email: FCC504@fcc.gov or phone: 202-418-0530 or TTY: 202-418-0432.

Synopsis

I. Introduction

1. By this Order, the Commission makes rule changes to part 1 of the Commission's rules, and amends its Schedule of Application Fees, 47 CFR 1.1102 through 1.1109, as listed in the Rule Changes section, to adjust its fees for processing applications and other filings. Section 8(a) of the Communications Act of 1934, as amended (“the Act”), requires the Commission to “assess and collect application fees at such rates as the Commission shall establish or at such modified rates as it shall establish pursuant to” Section 8(b).¹ Section 8(g) contains the Schedule of Charges for a broad range of application categories as well as procedures for modifying and collecting these charges.² Section 8(b)(1) requires that the Schedule of Application Fees “be reviewed by the Commission every two years after October 1, 1991, and adjusted by the Commission to reflect changes in the Consumer Price Index.” As required by Section 8(b)(1), this Order increases application fees to reflect the net change in the Consumer Price Index for all Urban Consumers (“CPI-U”) of 3.7 percent, an increase of 8.825 index points calculated from October 2015 (237.838) to October 2017 (246.663).³ The adjustments comply with the statutory formula set forth in Section 8(b).

¹ 47 U.S.C. 158(a).

² The RAY BAUM's Act of 2018 amended Section 8 of the Communications Act and provided an effective date of October 1, 2018 for such changes. Consolidated Appropriations Act, 2018, Division P—RAY BAUM's Act of 2018, Title I, FCC Reauthorization, Public Law 115-141 (March 23, 2018). Congress envisioned a transition between fees adopted before and after the effective date of the amendments to Section 8. In particular, Congress provided that application fees in effect on the day before the effective date of the RAY BAUM's Act shall remain in effect until such time as the Commission adjusts or amends such fee. Id. Section 8 fees are revised every even year and the Commission expects that this Order will become effective before October 1, 2018. We also note that in a separate proceeding, the Commission proposed to assess a small satellite application fee of $30,000.00 under the RAY BAUM's Act. See Streamlining Licensing Procedures for Small Satellites, Notice of Proposed Rulemaking, IB Docket No. 18-86, FCC 18-44, para. 76 (2018). In this Order, the Commission does not address this proposal.

³ Application fees are calculated based upon the process set forth in 47 U.S.C. 158(b)(1). The increase in the CPI-U between October 2015 (the month used to calculate the last CPI-U adjustment of the Schedule of Application Fees) and October 2017 is 8.825 index points, a 3.7 percent increase. Section 8(b)(1) prescribes that increases or decreases in application fees are to be “determined by the net change in the Consumer Price Index since the date of enactment of this section,” i.e., since December 1989. The actual calculation of fees is based on index points that are averaged over a time period beginning in December 1989. See Bureau of Labor Statistics CPI-U Index, https://www.bls.gov/cpi/tables/historical-cpi-u-201710.pdf (showing a CPI-U Index of 237.838 for October 2015 and 246.663 for October 2017).

2. The methodology and timing of adjustments to application fees are prescribed by statute at 47 U.S.C. 158(b). Because our action implementing the statute leaves us no discretion, prior notice and comment is unnecessary pursuant to 5 U.S.C. 553(b)(3)(B). This Order is also exempt from the requirements of the Regulatory Flexibility Act, 5 U.S.C. 601 et seq., pursuant to 5 U.S.C. 601(2). Copies of this Order will be sent to Congress and the Comptroller General in compliance with the Congressional Review Act, 5 U.S.C. 801 et seq. Notification of the fee adjustments made in this Order will be published in the Federal Register.

3. Reminder Regarding Lockbox Closures. During the past few years, the Commission has been reducing its use of P.O. Boxes for the collection of fees and has encouraged the use of electronic payment systems for all application and regulatory fees.⁴ The electronic payment of fees for applications, tariffs, and petitions increases the agency's financial efficiency by reducing expenditures, including the annual fee for utilizing the bank's services and the cost of processing each transaction manually, with very little or no inconvenience to the regulatees, applicants, and the public.⁵ As part of this process, the Commission has closed Lockbox 979092 (used to submit fees and petitions related to services provided by the Public Safety & Homeland Security Bureau) and Lockbox 979091 (used to submit fees and petitions related to services provided by the Wireline Competition Bureau).⁶ Additional closings will occur in coming months. As these Lockboxes are closed, filers will be required to submit payments electronically in accordance with the procedures set forth on the Commission's website, https://www.fcc.gov/licensingdatabases/fees. Payments can be made through the Fee Filer Online System (Fee Filer), accessible at https://www.fcc.gov/licensing-databases/fees/fee-filer, although we caution filers that the agency may transition to other secure payment systems in the future, after appropriate public notice and guidance. To file applications, tariffs, and petitions, parties should utilize, as applicable, the Commission's Electronic Tariff Filing System for tariffs, which can be found at https://apps.fcc.gov/etfs/etfsHome.action, or the Electronic Comment Filing System (ECFS), which can be found at http://apps.fcc.gov/ecfs/upload/display. Petitions filed in hard copy format should be submitted according to the procedures set forth on the web page of the Commission's Office of the Secretary, https://www.fcc.gov/seretary.

⁴ The Commission previously revised its payment rules to encourage electronic payment of application processing fees and require electronic payment of regulatory fees. 47 CFR 1.1112 (application fees) and 1.1158 (regulatory fees). These rules became effective November 30, 2015. 80 FR 66816 (Oct. 30, 2015).

⁵ See Treasury Financial Manual, Bulletin No. 2017-12, “Agency No-Cash or No-Check Policies,” released on September 18, 2017 (explaining the circumstances under which agencies may decide not to accept payments made in cash or by check), available at https://tfm.fiscal.treasury.gov/v1/bull/17-12.pdf; see also https://www.gpo.gov/fdsys/pkg/FR-2011-06-16/pdf/2011-15181.pdf.

⁶ Amendment of Part 1 of the Commission's Rules, Order, MD Docket No. 17-123, 32 FCC Rcd 4203 (2017) (modifying Section 1.1109 of the Commission's rules to delete reference to P.O. Box 979092 at U.S. Bank in St. Louis, Missouri); Amendment of Parts 0, 1, 51, and 61 of the Commission's Rules, Order, MD Docket No. 17-357, 32 FCC Rcd 10565 (2017) (modifying Section 1.1105 of the Commission's rules to delete reference to P.O. Box 979091 at U.S. Bank in St. Louis, Missouri).

II. Procedural Matters

A. Final Regulatory Flexibility Analysis

4. This Order is exempt from the requirements of the Regulatory Flexibility Act, 5 U.S.C. 601 et seq., pursuant to 5 U.S.C. 601(2).

B. Final Paperwork Reduction Act of 1995 Analysis

5. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

6. The Commission will send a copy of this Order to Congress and the Government Accountability Office pursuant to the Congressional Review Act, see 5 U.S.C. 801(a)(1)(A).

III. Ordering Clauses

7. Accordingly, it is ordered, that, pursuant to 1, 4(i), 4(j), and 8 of the Communications Act of 1934, as amended, 47 U.S.C. 151, 154(i), 154(j), and 158, the rule changes specified herein ARE ADOPTED and the Schedule of Application Fees, 47 CFR 1.1102 through 1.1109, is amended as set forth in the Rule Changes section.

8. It is further ordered that the rule changes and amendments to the Schedule of Application Fees made herein shall become effective September 4, 2018.

Federal Communications Commission.
Marlene Dortch,
Secretary.

Final Rules

For the reasons discussed in the preamble, the Federal Communications Commission amends 47 CFR part 1 as follows:

PART 1—PRACTICE AND PROCEDURE

1. The authority citation for part 1 continues to read as follows:

Authority: 47 U.S.C. 151, 154(i), 155, 157, 160, 201, 225, 227, 303, 309, 332, 1403, 1404, 1451, 1452, and 1455, unless otherwise noted.

2. Section 1.1102 is revised to read as follows:

§ 1.1102 Schedule of charges for applications and other filings in the wireless telecommunications services.

In the table below, the amounts appearing in the column labeled “Fee Amount” are for application fees only. Those services designated in the table below with an asterisk (*) in the column labeled “Payment Type Code” also have associated regulatory fees that must be paid at the same time the application fee is paid. Please refer to the FY 2017 Wireless Telecommunications Fee Filing Guide (updated and effective 9/26/16) for the corresponding regulatory fee amount located at https://www.fcc.gov/document/wtb-fee-filing-guide-effective-september-26-2016. For additional guidance, please refer to § 1.1152. Payment can be made electronically using the Commission's electronic filing and payment system “Fee Filer” (www.fcc.gov/feefiler). Remit manual filings and/or payments for these services to: Federal Communications Commission, Wireless Bureau Applications, P.O. Box 979097, St. Louis, MO 63197-9000.

Service | FCC Form No. | Fee amount | Payment type code
1. Marine Coast:
a. New; Renewal/Modification | 601 & 159 |  | PBMR *
| 601 & 159 | $140.00 | PBMM
b. Modification; Public Coast CMRS; Non-Profit | 601 & 159 | 140.00 | PBMM
c. Assignment of Authorization | 603 & 159 | 140.00 | PBMM
d. Transfer of Control Spectrum Leasing for Public Coast | 603 & 159 | 70.00 | PATM
| 608 & 159 | 70.00 | PATM
e. Duplicate License | 601 & 159 | 70.00 | PADM
f. Special Temporary Authority | 601 & 159 | 200.00 | PCMM
g. Renewal Only | 601 & 159 |  | PBMR *
| 601 & 159 | 140.00 | PBMM
h. Renewal (Electronic Filing) | 601 & 159 |  | PBMR *
| 601 & 159 | 140.00 | PBMM
i. Renewal Only (Non-Profit; CMRS) | 601 & 159 | 140.00 | PBMM
j. Renewal (Electronic Filing) Non-profit, CMRS | 601 & 159 | 140.00 | PBMM
k. Rule Waiver | 601, 603, 608 or 609-T & 159 | 210.00 | PDWM
l. Modification for Spectrum Leasing for Public Coast Stations | 608 & 159 | 140.00 | PBMM
m. Designated Entity Licensee Reportable Eligibility Event | 609-T & 159 | 70.00 | PATM
2. Aviation Ground:
a. New; Renewal/Modification | 601 & 159 |  | PBVR *
| 601 & 159 | 140.00 | PBVM
b. Modification; Non-Profit | 601 & 159 | 140.00 | PBVM
c. Assignment of Authorization | 603 & 159 | 140.00 | PBVM
d. Transfer of Control | 603 & 159 | 70.00 | PATM
e. Duplicate License | 601 & 159 | 70.00 | PADM
f. Special Temporary Authority | 601 & 159 | 200.00 | PCVM
g. Renewal Only | 601 & 159 |  | PBVR *
| 601 & 159 | 140.00 | PBVM
h. Renewal Electronic Filing) | 601 & 159 |  | PBVR *
| 601 & 159 | 140.00 | PBVM
i. Renewal Only Non-Profit | 601 & 159 | 140.00 | PBVM
j. Renewal Non-Profit (Electronic Filing) | 601 & 159 | 140.00 | PBVM
k. Rule Waiver | 601 or 603 & 159 | 210.00 | PDWM
3. Ship:
a. New; Renewal/Modification; Renewal Only | 605 & 159 |  | PASR *
| 605 & 159 | 70.00 | PASM
b. New; Renewal/Modification; Renewal Only (Electronic Filing) | 605 & 159 605 & 159 | 70.00 | PASR * PASM
c. Renewal Only Non-profit | 605 & 159 | 70.00 | PASM
d. Renewal Only Non-profit (Electronic Filing) | 605 & 159 | 70.00 | PASM
e. Modification; Non-profit | 605 & 159 | 70.00 | PASM
f. Modification; Non-profit (Electronic Filing) | 605 & 159 | 70.00 | PASM
g. Duplicate License | 605 & 159 | 70.00 | PADM
h. Duplicate License (Electronic Filing) | 605 & 159 | 70.00 | PADM
i. Exemption from Ship Station Requirements | 605 & 159 | 210.00 | PDWM
j. Rule Waiver | 605 & 159 | 210.00 | PDWM
k. Exemption from Ship Station Requirements (Electronic Filing) | 605 & 159 | 210.00 | PDWM
l. Rule Waiver (Electronic Filing) | 605 & 159 | 210.00 | PDWM
4. Aircraft:
a. New; Renewal/Modification | 605 & 159 |  | PAAR *
| 605 & 159 | 70.00 | PAAM
b. New; Renewal/Modification (Electronic Filing) | 605 & 159 |  | PAAR *
| 605 & 159 | 70.00 | PAAM
c. Modification; Non-Profit | 605 & 159 | 70.00 | PAAM
d. Modification Non-Profit (Electronic Filing) | 605 & 159 | 70.00 | PAAM
e. Renewal Only | 605 & 159 |  | PAAR *
| 605 & 159 | 70.00 | PAAM
f. Renewal (Electronic Filing) | 605 & 159 |  | PAAR *
| 605 & 159 | 70.00 | PAAM
g. Renewal Only Non-Profit | 605 & 159 | 70.00 | PAAM
h. Renewal; Renewal/Modification Non-Profit (Electronic Filing) | 605 & 159 | 70.00 | PAAM
i. Duplicate License | 605 & 159 | 70.00 | PADM
j. Duplicate License (Electronic Filing) | 605 & 159 | 70.00 | PADM
k. Rule Waiver | 603, 605 & 159 | 210.00 | PDWM
l. Rule Waiver (Electronic Filing) | 605 & 159 | 210.00 | PDWM
5. Private Operational Fixed Microwave and Private DEMS:
a. New; Renewal/Modification | 601 & 159 |  | PEOR *
| 601 & 159 | 305.00 | PEOM
b. New; Renewal/Modification (Electronic Filing) | 601 & 159 |  | PEOR *
| 601 & 159 | 305.00 | PEOM
c. Modification; Consolidate Call Signs; Non-Profit | 601 & 159 | 305.00 | PEOM
d. Modification; Consolidate Call Signs; Non-Profit (Electronic Filing) | 601 & 159 | 305.00 | PEOM
e. Renewal Only | 601 & 159 |  | PEOR *
| 601 & 159 | 305.00 | PEOM
f. Renewal (Electronic Filing) | 601 & 159 |  | PEOR *
| 601 & 159 | 305.00 | PEOM
g. Renewal Only Non-Profit | 601 & 159 | 305.00 | PEOM
h. Renewal Non-Profit (Electronic Filing) | 601 & 159 | 305.00 | PEOM
i. Assignment | 603 & 159 | 305.00 | PEOM
j. Assignment (Electronic Filing) | 603 & 159 | 305.00 | PEOM
k. Transfer of Control; Spectrum Leasing | 603 & 159 | 70.00 | PATM
| 603 & 159 | 70.00 | PATM
l. Transfer of Control; Spectrum Leasing (Electronic Filing) | 603 & 159 | 70.00 | PATM
| 603 & 159 | 70.00 | PATM
m. Duplicate License | 601 & 159 | 70.00 | PADM
n. Duplicate License (Electronic Filing) | 601 & 159 | 70.00 | PADM
o. Special Temporary Authority | 601 & 159 | 70.00 | PAOM
p. Special Temporary Authority (Electronic Filing) | 601 & 159 | 70.00 | PAOM
q. Rule Waiver | 601, 603 or | 210.00 | PDWM
| 608, 609T & 159 | 210.00 | PDWM
r. Rule Waiver (Electronic Filing) | 601, 603 or | 210.00 | PDWM
| 608, 609T & 159 | 210.00 | PDWM
s. Modification for Spectrum Leasing | 608 & 159 | 305.00 | PEOM
t. Modification for Spectrum Leasing (Electronic Filing) | 608 & 159 | 305.00 | PEOM
u. Designated Entity Licensee Reportable Eligibility Event | 609-T & 159 | 70.00 | PATM
6. Land Mobile:
PMRS; Intelligent Transportation Service | 601 & 159 |  | PALR *
a. New or Renewal/Modification (Frequencies below 470 MHz (except 220 MHz)) 902-928 MHz & RS | 601 & 159 | 70.00 | PALM
b. New; Renewal/Modification (Frequencies below 470 MHz (except 220 MHz)) (Electronic Filing) | 601 & 159 601 & 159 | 70.00 | PALR * PALM
c. New; Renewal/Modification (Frequencies 470 MHz and above and 220 MHz Local) | 601 & 159 601 & 159 | 70.00 | PALS * PALM
d. New; Renewal/Modification (Frequencies 470 MHz and above and 220 MHz Local) (Electronic Filing) | 601 & 159 601 & 159 | 70.00 | PALS * PALM
e. New; Renewal/Modification (220 MHz Nationwide) | 601 & 159 601 & 159 | 70.00 | PALT * PALM
f. New; Renewal/Modification (220 MHz Nationwide) (Electronic Filing) | 601 & 159 601 & 159 | 70.00 | PALT * PALM
g. Modification; Non-Profit; For Profit Special Emergency and Public Safety; nd CMRS | 601 & 159 | 70.00 | PALM
h. Modification; Non-Profit; For Profit Special Emergency and Public Safety; and CMRS (Electronic Filing) | 601 & 159 | 70.00 | PALM
i. Renewal Only | 601 & 159 |  |
| 601 & 159 | 70.00 | PALR *
|  |  | PALM
| 601 & 159 |  | PALS *
| 601 & 159 | 70.00 | PALM
| 601 & 159 | 70.00 | PALT *
| 601 & 159 | 70.00 | PALM
j. Renewal (Electronic Filing) | 601 & 159 |  | PALR *
| 601 & 159 | 70.00 | PALM
| 601 & 159 |  | PALS *
| 601 & 159 | 70.00 | PALM
| 601 & 159 |  | PALT *
| 601 & 159 | 70.00 | PALM
k. Renewal Only (Non-Profit; CMRS; For-Profit Special Emergency and Public Safety) | 601 & 159 | 70.00 | PALM
l. Renewal (Non-Profit; CMRS; For-Profit Special Emergency and Public Safety) (Electronic Filing) | 601 & 159 | 70.00 | PALM
m. Assignment of Authorization (PMRS & CMRS) | 603 & 159 | 70.00 | PALM
n. Assignment of Authorization (PMRS & CMRS) (Electronic Filing) | 603 & 159 | 70.00 | PALM
o. Transfer of Control (PMRS & CMRS); Spectrum Leasing | 603 & 159 603 & 159 | 70.00 70.00 | PATM PATM
p. Transfer of Control (PMRS & CMRS); Spectrum Leasing (Electronic Filing) | 603 & 159 608 & 159 | 70.00 70.00 | PATM PATM
q. Duplicate License | 601 & 159 | 70.00 | PADM
r. Duplicate License (Electronic Filing) | 601 & 159 | 70.00 | PADM
s. Special Temporary Authority | 601 & 159 | 70.00 | PALM
t. Special Temporary Authority (Electronic Filing) | 601 & 159 | 70.00 | PALM
u. Rule Waiver | 601, 603 or 608 & 159 | 210.00 | PDWM
| 601, 603 or 608 & 159 | 210.00 | PDWM
v. Rule Waiver (Electronic Filing) | 601, 603 or 608, 609T 159 | 210.00 | PDWM
| 601, 603 or 608, 609T 159 | 210.00 | PDWM
w. Consolidate Call Signs | 601 & 159 | 70.00 | PALM
x. Consolidate Call Signs (Electronic Filing) | 601 & 159 | 70.00 | PALM
y. Modification for Spectrum Leasing | 608 & 159 | 70.00 | PALM
z. Modification for Spectrum Leasing (Electronic Filing) | 608 & 159 | 70.00 | PALM
aa. Designated Entity Licensee Reportable Eligibility Event | 609-T & 159 | 70.00 | PATM
7. 218-219 MHz (previously IVDS):
a. New; Renewal/Modification | 601 & 159 |  | PAIR *
| 601 & 159 | 70.00 | PAIM
b. New; Renewal/Modification (Electronic Filing) | 601 & 159 | 70.00 | PAIR *
| 601 & 159 | 70.00 | PAIM
c. Modification; Non-Profit | 601 & 159 | 70.00 | PAIM
d. Modification; Non-Profit (Electronic Filing) | 601 & 159 | 70.00 | PAIM
e. Renewal Only | 601 & 159 |  | PAIR *
| 601 & 159 | 70.00 | PAIM
f. Renewal (Electronic Filing) | 601 & 159 |  | PAIR *
| 601 & 159 | 70.00 | PAIM
g. Assignment of Authorization | 603 & 159 | 70.00 | PAIM
h. Assignment of Authorization (Electronic Filing) | 603 & 159 | 70.00 | PAIM
i. Transfer of Control; Spectrum Leasing | 603 & 159 | 70.00 | PATM
| 608 & 159 | 70.00 | PATM
j. Transfer of Control; Spectrum Leasing (Electronic Filing) | 603 & 159 | 70.00 | PATM
| 603 & 159 | 70.00 | PATM
k. Duplicate License | 601 & 159 | 70.00 | PADM
l. Duplicate License (Electronic Filing) | 601 & 159 | 70.00 | PADM
m. Special Temporary Authority | 601 & 159 | 70.00 | PAIM
n. Special Temporary Authority (Electronic Filing) | 601 & 159 | 70.00 | PAIM
o. Modification for Spectrum Leasing | 608 & 159 | 70.00 | PAIM
p. Modification for Spectrum Leasing (Electronic Filing) | 608 & 159 | 70.00 | PAIM
q. Designated Entity Licensee Reportable Eligibility Event | 609-T & 159 | 70.00 | PATM
8. General Mobile Radio (GMRS):
a. New; Renewal/Modification | 605 & 159 |  | PAZR *
| 605 & 159 | 70.00 | PAZM
b. New; Renewal/Modification (Electronic Filing) | 605 & 159 |  | PAZR *
| 605 & 159 | 70.00 | PAZM
c. Modification | 605 & 159 | 70.00 | PAZM
d. Modification (Electronic Filing) | 605 & 159 | 70.00 | PAZM
e. Renewal Only | 605 & 159 |  | PAZR *
| 605 & 159 | 70.00 | PAZM
f. Renewal (Electronic Filing) | 605 & 159 |  | PAZR *
| 605 & 159 | 70.00 | PAZM
g. Duplicate License | 605 & 159 | 70.00 | PADM
h. Duplicate License (Electronic Filing) | 605 & 159 | 70.00 | PADM
i. Special Temporary Authority | 605 & 159 | 70.00 | PAZM
j. Special Temporary Authority (Electronic Filing) | 605 & 159 | 70.00 | PAZM
k. Rule Waiver | 605 & 159 | 210.00 | PDWM
l. Rule Waiver (Electronic Filing) | 605 & 159 | 210.00 | PDWM
9. Restricted Radiotelephone:
a. New (Lifetime Permit) New (Limited Use) | 605 & 159 | 70.00 | PARR
| 605 & 159 | 70.00 | PARR
b. Duplicate/Replacement Permit Duplicate/Replacement Permit (Limited Use) | 605 & 159 605 & 159 | 70.00 70.00 | PADM PADM
10. Commercial Radio Operator:
a. Renewal Only; Renewal/Modification | 605 & 159 | 70.00 | PACS
b. Duplicate | 605 & 159 | 70.00 | PADM
11. Hearing:
| Corres & 159 | 13,225.00 | PFHM
12. Common Carrier Microwave:
(Pt. To Pt., Local TV Trans. & Millimeter Wave Service) |  |  |
a. New; Renewal/Modification (Electronic Filing Required) | 601 & 159 |  | CJPR *
| 601 & 159 | 305.00 | CJPM
b. Major Modification; Consolidate Call Signs (Electronic Filing Required) | 601 & 159 | 305.00 | CJPM
c. Renewal (Electronic Filing Required) | 601 & 159 |  | CJPR *
| 601 & 159 | 305.00 | CJPM
d. Assignment of Authorization; Transfer of Control; Spectrum Leasing Additional Stations (Electronic Filing Required) | 603 & 159 608 & 159 603 or 608 & 159 | 110.00 110.00 70.00 | CCPM CCPM CAPM
e. Duplicate License (Electronic Filing Required) | 601 & 159 | 70.00 | PADM
f. Extension of Construction Authority (Electronic Filing Required) | 601 & 159 | 110.00 | CCPM
g. Special Temporary Authority | 601 & 159 | 140.00 | CEPM
h. Special Temporary Authority (Electronic Filing) | 601 & 159 | 140.00 | CEPM
i. Major Modification for Spectrum Leasing (Electronic Filing Required) | 608 & 159 | 305.00 | CJPM
j. Designated Entity Licensee Reportable Eligibility Event | 609-T & 159 | 70.00 | CAPM
13. Common Carrier Microwave (DEMS):
a. New; Renewal/Modification (Electronic Filing Required) | 601 & 159 |  | CJLR *
| 601 & 159 | 305.00 | CJLM
b. Major Modification; Consolidate Call Signs (Electronic Filing Required) | 601 & 159 | 305.00 | CJLM
c. Renewal (Electronic Filing Required) | 601 & 159 |  | CJLR *
| 601 & 159 | 305.00 | CJLM
d. Assignment of Authorization; Transfer of Control; Spectrum Leasing Additional Stations (Electronic Filing Required) | 603 & 159 603 & 159 603 or 608 & 159 | 110.00 110.00 70.00 | CCLM CCLM CALM
e. Duplicate License (Electronic Filing Required) | 601 & 159 | 70.00 | PADM
f. Extension of Construction Authority (Electronic Filing Required) | 601 & 159 | 110.00 | CCLM
g. Special Temporary Authority | 601 & 159 | 140.00 | CELM
h. Special Temporary Authority (Electronic Filing) | 601 & 159 | 140.00 | CELM
i. Major Modification for Spectrum Leasing (Electronic Filing Required) | 608 & 159 | 305.00 | CJLM
j. Designated Entity Licensee Reportable Eligibility Event | 609-T & 159 | 70.00 | CALM
14. Broadcast Auxiliary (Aural and TV Microwave):
a. New; Modification; Renewal/Modification | 601 & 159 | 170.00 | MEA
b. New; Modification; Renewal/Modification (Electronic Filing) | 601 & 159 | 170.00 | MEA
c. Special Temporary Authority | 601 & 159 | 200.00 | MGA
d. Special Temporary Authority (Electronic Filing) | 601 & 159 | 200.00 | MGA
e. Renewal Only | 601 & 159 | 70.00 | MAA
f. Renewal (Electronic Filing) | 601 & 159 | 70.00 | MAA
15. Broadcast Auxiliary (Remote and Low Power):
a. New; Modification; Renewal/Modification | 601 & 159 | 170.00 | MEA
b. New; Modification; Renewal/Modification (Electronic Filing) | 601 & 159 | 170.00 | MEA
c. Renewal Only | 601 & 159 | 70.00 | MAA
d. Renewal (Electronic Filing) | 601 & 159 | 70.00 | MAA
e. Special Temporary Authority | 601 & 159 | 200.00 | MGA
f. Special Temporary Authority (Electronic Filing) | 601 & 159 | 200.00 | MGA
16. Pt 22 Paging & Radiotelephone:
a. New; Major Mod; Additional Facility; Major Amendment; Major Renewal/Mod; Fill in Transmitter (Per Transmitter) (Electronic Filing Required) | 601 & 159 | 450.00 | CMD
b. Minor Mod; Renewal; Minor Renewal/Mod; (Per Call Sign) 900 MHz Nationwide Renewal Net Organ; New Operator (Per Operator/Per City) Notice of Completion of Construction or Extension of Time to Construct (Per Application) (Electronic Filing Required) | 601 & 159 | 70.00 | CAD
c. Auxiliary Test (Per Transmitter); Consolidate Call Signs (Per Call Sign) (Electronic Filing Required) | 601 & 159 | 395.00 | CLD
d. Special Temporary Authority (Per Location/Per Frequency) | 601 & 159 | 395.00 | CLD
e. Special Temporary Authority (Per Location/Per Frequency) (Electronic Filing) | 601 & 159 | 395.00 | CLD
f. Assignment of License or Transfer of Control; Spectrum Leasing (Full or Partial) (Per First Call Sign); Additional Call Signs (Per Call Signs) (Electronic Filing Required) | 603 & 159 608 & 159 603 or 608 & 159 | 450.00 450.00 70.00 | CMD CMD CAD
g. Subsidiary Comm. Service (Per Request) (Electronic Filing Required) | 601 & 159 | 200.00 | CFD
h. Major Modification for Spectrum Leasing (Electronic Filing Required) | 608 & 159 | 450.00 | CMD
i. Minor Modification for Spectrum Leasing (Electronic Filing Required) | 608 & 159 | 70.00 | CAD
j. Designated Entity Licensee Reportable Eligibility Event First Call Sign on Application | 609-T & 159 | 450.00 | CMD
k. Designated Entity Licensee Reportable Eligibility Event Each Additional Call Sign | 609-T & 159 | 70.00 | CAD
17. Cellular:
a. New; Major Mod; Additional Facility; Major Renewal/Mod (Per Call Sign) Electronic Filing Required) | 601 & 159 | 450.00 | CMC
b. Minor Modification; Minor Renewal/Mod (Per Call Sign) (Electronic Filing Required) | 601 & 159 | 120.00 | CDC
c. Assignment of License; Transfer of Control (Full or Partial) (Per Call Sign) Spectrum Leasing (Electronic Filing Required) | 603 & 159 603 & 159 | 450.00 450.00 | CMC CMC
d. Notice of Extension of Time to Complete Construction; (Per Request) Renewal (Per Call Sign) (Electronic Filing Required) | 601 & 159 | 70.00 | CAC
e. Special Temporary Authority (Per Request) | 601 & 159 | 395.00 | CLC
f. Special Temporary Authority (Per Request) (Electronic Filing) | 601 & 159 | 395.00 | CLC
g. Major Modification for Spectrum Leasing (Electronic Filing Required) | 608 & 159 | 450.00 | CMC
h. Minor Modification for Spectrum Leasing (Electronic Filing Required) | 608 & 159 | 120.00 | CDC
18. Rural Radio:
a. New; Major Renew/Mod; Additional Facility (Per Transmitter) (Electronic Filing Required) | 601 & 159 601 & 159 | 210.00 | CGRR * CGRM
b. Major Mod; Major Amendment (Per Transmitter) (Electronic Filing Required) | 601 & 159 | 210.00 | CGRM
c. Minor Modification; (Per Transmitter) (Electronic Filing Required) | 601 & 159 | 70.00 | CARM
d. Assignment of License; Transfer of Control (Full or Partial) (Per Call Sign) Spectrum Leasing Additional Calls (Per Call Sign) (Electronic Filing Required) | 603 & 159 608 & 159 603 or 608 & 159 | 210.00 210.00 70.00 | CGRM CGRM CARM
e. Renewal (Per Call Sign); Minor Renewal/Mod (Per Transmitter) (Electronic Filing Required) | 601 & 159 601 & 159 | 70.00 | CARR * CARM
f. Notice of Completion of Construction or Extension of Time to Construct (Per Application) (Electronic Filing Required) | 601 & 159 | 70.00 | CARM
g. Special Temporary Authority (Per Transmitter) | 601 & 159 | 395.00 | CLRM
h. Special Temporary Authority (Per Transmitter) (Electronic Filing) | 601 & 159 | 395.00 | CLRM
i. Combining Call Signs (Per Call Sign) (Electronic Filing Required) | 601 & 159 | 395.00 | CLRM
j. Auxiliary Test Station (Per Transmitter) (Electronic Filing Required) | 601 & 159 | 395.00 | CLRM
k. Major Modification for Spectrum Leasing (Electronic Filing Required) | 608 & 159 | 210.00 | CGRM
l. Minor Modification for Spectrum Leasing (Electronic Filing Required) | 608 & 159 | 70.00 | CARM
19. Offshore Radio:
a. New; Major Mod; Additional Facility; Major Amendment; Major Renew/Mod; Fill in Transmitters (Per Transmitter) (Electronic Filing Required) | 601 & 159 | 210.00 | CGF
b. Consolidate Call Signs (Per Call Sign); Auxiliary Test (Per Transmitter) (Electronic Filing Required) | 601 & 159 | 395.00 | CLF
c. Minor Modification; Minor Renewal/Modification (Per Transmitter); Notice of Completion of Construction or Extension of Time to Construct (Per Application); Renewal (Per Call Sign) (Electronic Filing Required) | 601 & 159 | 70.00 | CAF
d. Assignment of License; Transfer of Control (Full or Partial) | 603 & 159 | 210.00 | CGF
Spectrum Leasing | 608 & 159 | 210.00 | CGF
Additional Calls (Electronic Filing Required) | 603 or 608 & 159 | 70.00 | CAF
e. Special Temporary Authority (Per Transmitter) | 601 & 159 | 395.00 | CLF
f. Special Temporary Authority (Per Transmitter) (Electronic Filing) | 601 & 159 | 395.00 | CLF
g. Major Modification for Spectrum Leasing (Electronic Filing Required) | 608 & 159 | 210.00 | CGF
h. Minor Modification for Spectrum Leasing (Electronic Filing Required) | 608 & 159 | 70.00 | CAF
20. Broadband Radio Service (Previously Multipoint Distribution Service):
a. New station/Renewal/Modification (Electronic Filing Required) | 601 & 159 | 305.00 (Per call sign) | CJM
b. Major Modification of Licenses (Electronic Filing Required) | 601 & 159 | 305.00 | CJM
c. Certification of Completion of Construction (Electronic Filing Required) | 601 & 159 | 895.00 (Per call sign) | CPM
d. License Renewal (Electronic Filing Required) | 601 & 159 | 305.00 | CJM
e. Assignment of Authorization; Transfer of Control (first station) (Electronic Filing Required) Spectrum Leasing (first station) Additional Station | 603 & 159 608 & 159 608 & 159 | 110.00 110.00 70.00 | CCM CCM CAM
f. Extension of Construction Authorization (Electronic Filing Required) | 601 & 159 | 255.00 (Per call sign) | CHM
g. Special Temporary Authority or Request for Waiver of Prior Construction Authorization (Electronic Filing) | 601 & 159 | 140.00 (Per call sign) | CEM
h. Special Temporary Authority | 601 & 159 | 140.00 (Per call sign) | CEM
i. Major Modification for Spectrum Leasing (Electronic Filing Required) | 608 & 159 | 305.00 (Per Lease Id.) | CJM
j. Designated Entity Licensee Reportable Eligibility Event First Station on Application | 609-T & 159 | 110.00 | CCM
k. Designated Entity Licensee Reportable Eligibility Event Each Additional Station | 609-T & 159 | 70.00 | CAM
21. Communications Assistance for Law Enforcement (CALEA) Petitions | Correspondence & 159 | 6,945.00 | CALA

3. Section 1.1103 is revised to read as follows:

§ 1.1103 Schedule of charges for equipment approval, experimental radio services (or service).

Payment can be made electronically using the Commission's electronic filing and payment system “Fee Filer” (www.fcc.gov/feefiler). Remit manual filings and/or payments for these services to: Federal Communications Commission, OET Services, P.O. Box 979095, St. Louis, MO 63197-9000.

Service | FCC Form No. | Fee amount | Payment type code
Equipment Approval Service(s) |  |  |
1. Certification:
a. Receivers (except TV and FM) (Electronic Filing Only) | 731 & 159 | $560.00 | EEC
b. Devices Under Parts 11, 15 & 18 (except receivers) (Electronic Filing Only) | 731 & 159 | 1,440.00 | EGC
c. All Other Devices (Electronic Filing Only) | 731 & 159 | 725.00 | EFT
d. Modifications and Class II Permissive Changes (Electronic Filing Only) | 731 & 159 | 70.00 | EAC
e. Request for Confidentiality under Certification (Electronic Filing Only) | 731 & 159 | 210.00 | EBC
f. Class III Permissive Changes (Electronic Filing Only) | 731 & 159 | 725.00 | ECC
2. Advance Approval of Subscription TV Systems: | Corres & 159 | 4,415.00 | EIS
a. Request for Confidentiality For Advance Approval of Subscription TV Systems | Corres & 159 | 210.00 | EBS
3. Assignment of Grantee Code:
a. For all Application Types, except Subscription TV (Electronic Filing Only—Optional Electronic Payment) | Electronic Assignment & Form 159 or Optional Electronic Payment | 70.00 | EAG
4. Experimental Radio Service(s):
a. New Station Authorization | 442 & 159 | 70.00 | EAE
b. Modification of Authorization | 442 & 159 | 70.00 | EAE
c. Renewal of Station Authorization | 405 & 159 | 70.00 | EAE
d. Assignment of License or Transfer of Control | 702 & 159 | 70.00 | EAE
| or
| 703 & 159 | 70.00 | EAE
e. Special Temporary Authority | Corres & 159 | 70.00 | EAE
f. Additional fee required for any of the above applications that request withholding from public inspection | Corres & 159 | 70.00 | EAE

4. Section 1.1104 is revised to read as follows:

§ 1.1104 Schedule of charges for applications and other filings for media services.

Payment can be made electronically using the Commission's electronic filing and payment system “Fee Filer” (www.fcc.gov/feefiler). Remit manual filings and/or payments for these services to: Federal Communications Commission, Media Bureau Services, P.O. Box 979089, St. Louis, MO 63197-9000. The asterisk (*) indicates that multiple stations and multiple fee submissions are acceptable within the same post office box.

Service | FCC Form No. | Fee amount | Payment type code
1. Commercial TV Services
a. New and Major Change Construction Permits (per application) (Electronic Filing) | 301 & 159 | $4,960.00 | MVT
b. Minor Change (per application) (Electronic Filing) | 301 & 159 | 1,110.00 | MPT
c. Main Studio Request | Corres & 159 | 1,110.00 | MPT
d. New License (per application) (Electronic Filing) | 302-TV & 159 302-DTV & 159 | 335.00 335.00 | MJT MJT
e. License Renewal (per application) (Electronic Filing) | 303-S & 159 | 200.00 | MGT
f. License Assignment:
(i) Long Form (Electronic Filing) | 314 & 159 | 1,110.00 | MPT *
(ii) Short Form (Electronic Filing) | 316 & 159 | 160.00 | MDT *
g. Transfer of Control:
(i) Long Form (Electronic Filing) | 315 & 159 | 1,110.00 | MPT *
(ii) Short Form (Electronic Filing) | 316 & 159 | 160.00 | MDT *
h. Call Sign (Electronic Filing) | 380 & 159 | 110.00 | MBT
i. Special Temporary Authority | Corres & 159 | 200.00 | MGT
j. Petition for Rulemaking for New Community of License (Electronic Filing) | 301 & 159 302-TV & 159 | 3,065.00 3,065.00 | MRT MRT
k. Ownership Report (Electronic Filing) | 323 & 159 Corres &159 | 70.00 70.00 | MAT * MAT *
2. Commercial AM Radio Stations:
a. New or Major Change Construction Permit (Electronic Filing) | 301 & 159 | 4,415.00 | MUR
b. Minor Change (per application) (Electronic Filing) | 301 & 159 | 1,110.00 | MPR
c. Main Studio Request (per request) | Corres & 159 | 1,110.00 | MPR
d. New License (per application) (Electronic Filing) | 302-AM & 159 | 725.00 | MMR
e. AM Directional Antenna (per application) (Electronic Filing) | 302-AM & 159 | 835.00 | MOR
f. AM Remote Control (per application) (Electronic Filing) | 301 & 159 | 70.00 | MAR
g. License Renewal (per application) (Electronic Filing) | 303-S & 159 | 200.00 | MGR
h. License Assignment:
(i) Long Form (Electronic Filing) | 314 & 159 | 1,110.00 | MPR *
(ii) Short Form (Electronic Filing) | 316 & 159 | 160.00 | MDR *
i. Transfer of Control:
(i) Long Form (Electronic Filing) | 315 & 159 | 1,110.00 | MPR *
(ii) Short Form (Electronic Filing) | 316 & 159 | 160.00 | MDR *
j. Call Sign (Electronic Filing) | 380 & 159 | 110.00 | MBR
k. Special Temporary Authority | Corres & 159 | 200.00 | MGR
l. Ownership Report (Electronic Filing) | 323 & 159 or Corres & 159 | 70.00 70.00 | MAR MAR
3. Commercial FM Radio Stations:
a. New or Major Change Construction Permit (Electronic Filing) | 301 & 159 | 3,975.00 | MTR
b. Minor Change (Electronic Filing) | 301 & 159 | 1,110.00 | MPR
c. Main Studio Request (per request) | Corres & 159 | 1,110.00 | MPR
d. New License (Electronic Filing) | 302-FM & 159 | 225.00 | MHR
e. FM Directional Antenna (Electronic Filing) | 302-FM & 159 | 695.00 | MLR
f. License Renewal (per application) (Electronic Filing) | 303-S & 159 | 200.00 | MGR
g. License Assignment:
(i) Long Form (Electronic Filing) | 314 & 159 | 1,110.00 | MPR *
(ii) Short Form (Electronic Filing) | 316 & 159 | 160.00 | MDR *
h. Transfer of Control:
(i) Long Form (Electronic Filing) | 315 & 159 | 1,110.00 | MPR *
(ii) Short Form (Electronic Filing) | 316 & 159 | 160.00 | MDR *
i. Call Sign (Electronic Filing) | 380 & 159 | 110.00 | MBR
j. Special Temporary Authority | Corres & 159 | 200.00 | MGR
k. Petition for Rulemaking for New Community of License or Higher Class Channel (Electronic Filing) | 301 & 159 or 302-FM & 159 | 3,065.00 3,065.00 | MRR MRR
l. Ownership Report (Electronic Filing) | 323 & 159 or Corres & 159 | 70.00 70.00 | MAR MAR
4. FM Translators:
a. New or Major Change Construction Permit (Electronic Filing) | 349 & 159 | 835.00 | MOF
b. New License (Electronic Filing) | 350 & 159 | 170.00 | MEF
c. License Renewal (Electronic Filing) | 303-S & 159 | 70.00 | MAF
d. Special Temporary Authority | Corres & 159 | 200.00 | MGF
e. License Assignment (Electronic Filing) | 345 & 159 | 160.00 | MDF *
| 314 & 159 | 160.00 | MDF *
| 316 & 159 | 160.00 | MDF *
f. Transfer of Control (Electronic Filing) | 345 & 159 | 160.00 | MDF *
| 315 & 159 | 160.00 | MDF *
| 316 & 159 | 160.00 | MDF*
5. TV Translators and LPTV Stations:
a. New or Major Change Construction Permit (per application) (Electronic Filing) | 346 & 159 | 835.00 | MOL
b. New License (per application) (Electronic Filing) | 347 & 159 | 170.00 | MEL
c. License Renewal (Electronic Filing) | 303-S & 159 | 70.00 | MAL*
d. Special Temporary Authority | Corres & 159 | 200.00 | MGL
e. License Assignment (Electronic Filing) | 345 & 159 314 & 159 316 & 159 | 160.00 160.00 160.00 | MDL * MDL * MDL *
f. Transfer of Control (Electronic Filing) | 345 & 159 315 & 159 316 & 159 | 160.00 160.00 160.00 | MDL * MDL * MDL *
g. Call Sign (Electronic Filing) | 380 & 159 | 110.00 | MBT
6. FM Booster Stations:
a. New or Major Change Construction Permit (Electronic Filing) | 349 & 159 | 835.00 | MOF
b. New License (Electronic Filing) | 350 & 159 | 170.00 | MEF
c. Special Temporary Authority | Corres & 159 | 200.00 | MGF
7. TV Booster Stations:
a. New or Major Change (Electronic Filing) | 346 & 159 | 835.00 | MOF
b. New License (Electronic Filing) | 347 & 159 | 170.00 | MEF
c. Special Temporary Authority | Corres & 159 | 200.00 | MGF
8. Class A TV Services:
a. New and Major Change Construction Permits (per application) (Electronic Filing) | 301-CA & 159 | 4,960.00 | MVT
b. New License (per application) (Electronic Filing) | 302-CA & 159 | 335.00 | MJT
c. License Renewal (per application) (Electronic Filing) | 303-S & 159 | 200.00 | MGT
d. Special Temporary Authority | Corres & 159 | 200.00 | MGT
e. License Assignment:
(i) Long Form (Electronic Filing) | 314 & 159 | 1,110.00 | MPT *
(ii) Short Form (Electronic Filing) | 316 & 159 | 160.00 | MDT *
f. Transfer of Control:
(i) Long Form (Electronic Filing) | 315 & 159 | 1,110.00 | MPT *
(ii) Short Form (Electronic Filing) | 316 & 159 | 160.00 | MDT *
g. Main Studio Request | Corres & 159 | 1,110.00 | MPT
h. Call Sign (Electronic Filing) | 380 & 159 | 110.00 | MBT
9. Cable Television Services:
a. CARS License | 327 & 159 | 305.00 | TIC
b. CARS Modifications | 327 & 159 | 305.00 | TIC
c. CARS License Renewal (Electronic Filing) | 327 & 159 | 305.00 | TIC
d. CARS License Assignment | 327 & 159 | 305.00 | TIC
e. CARS Transfer of Control | 327 & 159 | 305.00 | TIC
f. Special Temporary Authority | Corres & 159 | 200.00 | TGC
g. Cable Special Relief Petition | Corres & 159 | 1,550.00 | TQC
h. Cable Community Registration (Electronic Filing) | 322 & 159 | 70.00 | TAC
i. Aeronautical Frequency Usage Notifications (Electronic Filing) | 321 & 159 | 70.00 | TAC

5. Section 1.1105 is revised to read as follows:

§ 1.1105 Schedule of charges for applications and other filings for the wireline competition services.

Payments should be made electronically using the Commission's electronic filing and payment system “Fee Filer” (www.fcc.gov/feefiler). Manual filings and/or payments for these services are no longer accepted.

Service | FCC Form No. | Fee amount | Payment type code
1. Domestic 214 Applications | Corres & 159 | $1,195.00 | CDT
2. Tariff Filings:
a. Filing Fees (per transmittal or cover letter) | Corres & 159 | 960.00 | CQK
b. Application for Special Permission Filing (request for waiver of any rule in Part 61 of the Commission's Rules) (per request) | Corres & 159 | 960.00 | CQK
c. Waiver of Part 69 Tariff Rules (per request) | Corres & 159 | 960.00 | CQK
3. Accounting:
a. Review of Depreciation Update Study (single state) | Corres & 159 | 40,465.00 | BKA
(i) Each Additional State | Corres & 159 | 1,335.00 | CVA
b. Petition for Waiver (per petition)
(i) Waiver of Part 69 Accounting Rules & Part 32 Accounting Rules, Part 43 Reporting Requirements, Part 64 Allocation of Costs Rules, Part 65 Rate of Return & Rate Base Rules | Corres & 159 | 9,120.00 | BEA
(ii) Part 36 Separation Rules | Corres & 159 | 9,120.00 | BEB

6. Section 1.1106 is revised to read as follows:

§ 1.1106 Schedule of charges for applications and other filings for the enforcement services.

Payment can be made electronically using the Commission's electronic filing and payment system “Fee Filer” (www.fcc.gov/feefiler). Remit manual filings and/or payments for these services to: Federal Communications Commission, Enforcement Bureau, P.O. Box 979094, St. Louis, MO 63197-9000 with the exception of Accounting and Audits, which will be invoiced. Carriers should follow invoice instructions when making payment.

Service | FCC Form No. | Fee amount | Payment type code
1. Formal Complaints | Corres & 159 | $235.00 | CIZ
2. Accounting and Audits:
a. Field Audit | Carriers will be invoiced for the amount due | 121,845.00 | BMA
b. Review of Attest Audit | Carriers will be invoiced for the amount due | 66,510.00 | BLA
3. Development and Review of Agreed upon—Procedures Engagement: | Corres & 159 | 66,510.00 | BLA
4. Pole Attachment Complaint | Corres & 159 | 295.00 | TPC

7. Section 1.1107 is revised to read as follows:

§ 1.1107 Schedule of charges for applications and other filings for the international services.

Payment can be made electronically using the Commission's electronic filing and payment system “Fee Filer” (www.fcc.gov/feefiler). Remit manual filings and/or payments for these services to: Federal Communications Commission, International Bureau Applications, P.O. Box 979093, St. Louis, MO 63197-9000.

Service | FCC Form No. | Fee amount | Payment type code
1. International Fixed Public Radio (Public & Control Stations).
a. Initial Construction Permit (per station) | 407 & 159 | $1,000.00 | CSN
b. Assignment or Transfer (per Application) | 702 & 159 or 704 & 159 | 1,000.00 1,000.00 | CSN CSN
c. Renewal (per license ) | 405 & 159 | 725.00 | CON
d. Modification (per station) | 403 & 159 | 725.00 | CON
e. Extension of Construction Authorization (per station) | 701 & 159 | 365.00 | CKN
f. Special Temporary Authority or request for Waiver (per request) | Corres & 159 | 365.00 | CKN
2. Section 214 Applications:
a. Overseas Cable Construction | Corres & 159 | 17,850.00 | BIT
b. Cable Landing License:
(i) Common Carrier | Corres & 159 | 2,005.00 | CXT
(ii) Non-Common Carrier | Corres & 159 | 19,855.00 | BJT
c. All other International 214 Applications | Corres & 159 | 1,195.00 | CUT
d. Special Temporary Authority (all services) | Corres & 159 | 1,195.00 | CUT
e. Assignments or transfers (all services) | Corres & 159 | 1,195.00 | CUT
3. Fixed Satellite Transmit/Receive Earth Stations:
a. Initial Application (per station) | 312 Main & Schedule B & 159 | 2,985.00 | BAX
b. Modification of License (per station) | 312 Main & Schedule B & 159 | 210.00 | CGX
c. Assignment or Transfer:
(i) First station | 312 Main & Schedule A & 159 | 590.00 | CNX
(ii) Each Additional Station | Attachment to 312-Schedule A | 200.00 | CFX
d. Renewal of License (per station ) | 312-R & 159 | 210.00 | CGX
e. Special Temporary Authority (per request) | 312 Main & 159 | 210.00 | CGX
f. Amendment of Pending Application (per station) | 312 Main & Schedule B & 159 | 210.00 | CGX
g. Extension of Construction Permit (modification) (per station) | 312 Main & 159 | 210.00 | CGX
4. Fixed Satellite transmit/receive Earth Stations (2 meters or less operating in the 4/6 GHz frequency band):
a. Lead Application | 312 Main & Schedule B & 159 | 6,615.00 | BDS
b. Routine Application (per station) | 312 Main & Schedule B & 159 | 70.00 | CAS
c. Modification of License (per station) | 312 Main & Schedule B & 159 | 210.00 | CGS
d. Assignment or Transfer:
(i) First Station | 312 Main & Schedule A & 159 | 590.00 | CNS
(ii) Each Additional Station | Attachment to 312-Schedule A | 70.00 | CAS
e. Renewal of License (per station) | 312-R & 159 | 210.00 | CGS
f. Special Temporary Authority (per request) | 312 Main & 159 | 210.00 | CGS
g. Amendment of Pending Application (per station) | 312 Main & Schedule A or B & 159 | 210.00 | CGS
h. Extension of Construction Permit (modification) (per station ) | 312 & 159 | 210.00 | CGS
5. Receive Only Earth Stations:
a. Initial Applications for Registration or License (per station) | 312 Main & Schedule B & 159 | 450.00 | CMO
b. Modification of License or Registration (per station) | 312 Main & Schedule B & 159 | 210.00 | CGO
c. Assignment or Transfer:
(i) First Station | 312 Main & Schedule A & 159 | 590.00 | CNO
(ii) Each Additional Station | Attachment to 312-Schedule A | 200.00 | CFO
d. Renewal of License (per station) | 312-R & 159 | 210.00 | CGO
e. Amendment of Pending Application (per station) | 312 Main & Schedule A or B & 159 | 210.00 | CGO
f. Extension of Construction Permit (modification) (per station) | 312 Main & 159 | 210.00 | CGO
g. Waivers (per request) | Corres & 159 | 210.00 | CGO
6. Fixed Satellite Very Small Aperture Terminal (VSAT) Systems:
a. Initial Application (per station) | 312 Main & Schedule B & 159 | 11,015.00 | BGV
b. Modification of License (per system) | 312 Main & Schedule B & 159 | 210.00 | CGV
c. Assignment or Transfer of System | 312 Main & Schedule A & 159 | 2,945.00 | CZV
d. Renewal of License (per system) | 312-R & 159 | 210.00 | CGV
e. Special Temporary Authority (per request) | 312 & 159 | 210.00 | CGV
f. Amendment of Pending Application (per system) | 312 Main & Schedule A or B & 159 | 210.00 | CGV
g. Extension of Construction Permit (modification) (per system) | 312 & 159 | 210.00 | CGV
7. Mobile Satellite Earth Stations:
a. Initial Applications of Blanket Authorization | 312 Main & Schedule B & 159 | 11,015.00 | BGB
b. Initial Application for Individual Earth Station | 312 Main & Schedule B & 159 | 2,645.00 | CYB
c. Modification of License (per system) | 312 Main & Schedule B & 159 | 210.00 | CGB
d. Assignment or Transfer (per system) | 312 Main & Schedule A & 159 | 2,945.00 | CZB
e. Renewal of License (per system) | 312-R & 159 | 210.00 | CGB
f. Special Temporary Authority (per request) | 312 & 159 | 210.00 | CGB
g. Amendment of Pending Application (per system) | 312 Main & Schedule B & 159 | 210.00 | CGB
h. Extension of Construction Permit (modification) (per system) | 312 & 159 | 210.00 | CGB
8. Space Stations (Geostationary):
a. Application for Authority to Launch & Operate (per satellite):
(i) Initial Application | 312 Main & Schedule S & 159 | 136,930.00 | BNY
(ii) Replacement Satellite | 312 Main & Schedule S & 159 | 136,930.00 | BNY
b. Assignment or Transfer (per satellite) | 312 Main & Schedule A & 159 | 9,785.00 | BFY
c. Modification (per satellite) | 312 Main & Schedule S (if needed) & 159 | 9,785.00 | BFY
d. Special Temporary Authority (per satellite) | 312 & 159 | 980.00 | CRY
e. Amendment of Pending Application (per satellite) | 312 Main & Schedule S (if needed) & 159 | 1,960.00 | CWY
f. Extension of Launch Authority (per satellite) | 312 Main & Corres & 159 | 980.00 | CRY
9. Space Stations (NGSO):
a. Application for Authority to Launch & Operate (per system of technically identical satellites) satellites) | 312 Main & Schedule S & 159 | 471,575.00 | CLW
b. Assignment or Transfer (per system) | 312 Main & Schedule A & 159 | 13,480.00 | CZW
c. Modification (per system) | 312 Main & Schedule S (if needed) & 159 | 33,685.00 | CGW
d. Special Temporary Authority (per request) | Corres & 159 | 3,375.00 | CXW
e. Amendment of Pending Application (per request) | 312 Main & Schedule S & 159 | 6,740.00 | CAW
f. Extension of Launch Authority (per system) | 312 Main & 159 | 3,375.00 | CXW
10. Direct Broadcast Satellites:
a. Authorization to Construct or Major Modification (per satellite) | 312 Main & Schedule S & 159 | 3,975.00 | MTD
b. Construction Permit and Launch Authority (per satellite) | 312 Main & Schedule S & 159 | 38,555.00 | MXD
c. License to Operate (per satellite) | 312 Main & Schedule S & 159 | 1,110.00 | MPD
d. Special Temporary Authority (per satellite) | 312 Main & 159 | 200.00 | MGD
11. International Broadcast Stations:
a. New Station & Facilities Change Construction Permit (per application) | 309 & 159 | 3,340.00 | MSN
b. New License (per application) | 310 & 159 | 755.00 | MNN
c. License Renewal (per application) | 311 & 159 | 190.00 | MFN
d. License Assignment or Transfer of Control (per station license) | 314 & 159 or 315 & 159 or 316 & 159 | 120.00 120.00 120.00 | MCN MCN MCN
e. Frequency Assignment & Coordination (per frequency hour) | Corres & 159 | 70.00 | MAN
f. Special Temporary Authorization (per application) | Corres & 159 | 200.00 | MGN
12. Permit to Deliver Programs to Foreign Broadcast Stations (per application):
a. Commercial Television Stations | 308 & 159 | 110.00 | MBT
b. Commercial AM or FM Radio Stations | 308 & 159 | 110.00 | MBR
13. Recognized Operating Agency (per application) | Corres & 159 | 1,195.00 | CUG

8. Section 1.1108 is revised to read as follows:

§ 1.1108 Schedule of charges for applications and other filings for the international telecommunication services.

Payment can be made electronically using the Commission's electronic filing and payment system “Fee Filer” (www.fcc.gov/feefiler). Remit manual filings and/or payments for these services to: Federal Communications Commission, International Telecommunication Fees, P.O. Box 979096, St. Louis, MO 63197-9000.

Service | FCC Form No. | Fee amount | Payment type code
1. Administrative Fee for Collections (per line item) | 99 & 99A | $2.00 | IAT
2. Telecommunication Charges | 99 & 99A |  | ITTS

9. Section 1.1109 is revised to read as follows:

§ 1.1109 Schedule of charges for applications and other filings for the Homeland services.

Payments should be made electronically using the Commission's electronic filing and payment system “Fee Filer” (www.fcc.gov/feefiler). Manual filings and/or payments for these services are no longer accepted.

Service | FCC Form No. | Fee amount | Payment type code
1. Communication Assistance for Law Enforcement (CALEA) Petitions | Corres & 159 | $6,945.00 | CLEA

[FR Doc. 2018-16039 Filed 8-2-18; 8:45 am]

BILLING CODE 6712-01-P